DEPARTMENT OF COMMERCE

International Trade Administration

University of Wisconsin—Eau Claire; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-016.

Applicant: University of Wisconsin—Eau Claire, Eau Claire, WI 54701.

Instrument: Automatic Fusion Machine, Model AutoFluxer 4.

Manufacturer: Breitlander Eichproben und Labormaterial GmbH, Germany.

Intended Use: See notice at 68 FR 16472, April 4, 2003.

Comments: None received.

Decision: Approved. No instrument of equivalent scientific value to the foreign instrument, for such purposes as it is intended to be used, is being manufactured in the United States.

Reasons: The foreign instrument provides fused glass beads which presents a homogeneous smooth surface to an x-ray fluorescence spectrometer by melting whole rock powder samples under computer control at temperatures to 1600° C. The Los Alamos National Laboratory advised May 2, 2003 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-12311 Filed 5-15-03; 8:45 am]

BILLING CODE 3510-DS-P